ENVIRONMENTAL PROTECTION AGENCY

40 CFR Part 180

[EPA-HQ-OPP-2012-0029; FRL-9367-6]

Chlorantraniliprole; Pesticide Tolerances, Technical Correction

AGENCY: Environmental Protection Agency (EPA).

ACTION: Final rule; technical correction.

SUMMARY: EPA issued a final rule in the Federal Register of October 3, 2012, concerning the establishment of tolerances for the insecticide chlorantraniliprole on multiple commodities. This document corrects inadvertent errors and omissions. The corrections are further discussed in Unit II.

DATES: This technical correction is effective December 21, 2012.

ADDRESSES: The docket for this action, identified by docket identification (ID) number EPA-HQ-OPP-2012-0029, is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

FOR FURTHER INFORMATION CONTACT: Jennifer Urbanski, Registration Division, (7505P), Office of Pesticide Programs, Environmental Protection Agency, 1200 Pennsylvania Ave. NW., Washington, DC 20460-0001; telephone number: (703) 347-0156; email address: urbanski.jennifer@epa.gov.

SUPPLEMENTARY INFORMATION:

I. Does this action apply to me?

The Agency included in the final rule a list of those who may be potentially affected by this action.

II. What does this technical correction do?

EPA issued a final rule in the Federal Register on October 3, 2012, establishing tolerances for residues of the insecticide chlorantraniliprole in or on multiple commodities. (77 FR 60311). That rule incorrectly established tolerances for “Rapeseed subgroup 20B” and “Sunflower subgroup 20C.” Under EPA's crop group regulation there are no such crop groups or subgroups. Rather, as correctly indicated several times in the preamble to the rule, including in the description of the action being taken by the Agency and the amendatory instruction for § 180.628, the correct regulatory crop subgroup designation is “Rapeseed subgroup 20A” and “Sunflower subgroup 20B.” The rule also incorrectly established the tolerance level for the Sunflower subgroup as 0.3 parts per million (ppm) instead of 2.0 ppm, as indicated in the preamble. Both the correct crop subgroup names and the 2.0 tolerance level for the Sunflower subgroup tolerance were included in the publication of the notice of the petition. (77 FR 20344, April 4, 2012). The October 3, 2012 rule also incorrectly established tolerances for “Vegetable, foliage of legume, group 7, forage” and “Vegetable, foliage of legume, group 7, hay”. Under EPA's crop group regulation there are no such crop groups. Rather, there is only a crop group for “Vegetable, foliage of legume, group 7.” The petition correctly requested a tolerance for “Vegetable, foliage of legume, group 7.” Therefore, this correction is replacing those two incorrect crop group designations and tolerances with “Vegetable, foliage of legume, group 7” at a tolerance of 90 ppm.

In addition, despite indicating that EPA was granting the petitioner's request for the revocation of existing tolerances made redundant by the establishment of crop group tolerances, EPA failed to remove from § 180.628 the tolerances for cotton, undelinted seed, and lunaria, seed, even though tolerances for Cottonseed subgroup 20C and Rapeseed subgroup 20A, which cover cotton, undelinted seed and lunaria seed were granted. Therefore, EPA is revoking the tolerances for cotton, undelinted seed, and lunaria, seed, to address these redundancies.

III. Why is this correction issued as a final rule?

Section 553 of the Administrative Procedure Act (APA) (5 U.S.C. 553(b)(3)(B)) provides that, when an agency for good cause finds that notice and public procedure are impracticable, unnecessary, or contrary to the public interest, the agency may issue a final rule without providing notice and an opportunity for public comment. EPA has determined that there is good cause for making this technical correction final without prior proposal and opportunity for comment, because this action merely corrects erroneous crop group names and an erroneous tolerance level that were due to an inadvertent error. Both the correct crop group names and tolerance level received prominent notice in the published notice of the petition and in EPA's preamble to the final rule. EPA finds that this constitutes good cause under 5 U.S.C. 553(b)(3)(B).

IV. Do any of the statutory and Executive Order reviews apply to this action?

No. For a detailed discussion concerning the statutory and executive order reviews, refer to Unit VI. of the October 3, 2007 final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 180

Environmental protection, Administrative practice and procedure, Agricultural commodities, Pesticides and pests, Reporting and recordkeeping requirements.

Dated: December 12, 2012.
Lois Rossi,
Director, Registration Division, Office of Pesticide Programs.

Therefore, 40 CFR part 180 is corrected as follows:

PART 180—[AMENDED]

1. The authority citation for part 180 continues to read as follows:

Authority: 21 U.S.C. 321(q), 346a and 371.

2. In Section 180.628, the table to paragraph (a) is amended as follows:

i. Remove the entries for Cotton, undelinted seed; Lunaria, seed; Rapeseed subgroup 20B; Sunflower subgroup 20C; Vegetable, foliage of legume, group 7, forage; and Vegetable, foliage of legume, group 7, hay.

ii. Add alphabetically entries for Rapeseed subgroup 20A; Sunflower subgroup 20B; and Vegetable, foliage of legume, group 7.

The added entries read as follows:

§ 180.628 Chlorantraniliprole; tolerances for residues.

(a) General. * * *

Commodity | Parts per million
* * * * *
Rapeseed subgroup 20A | 2.0
* * * * *
Sunflower subgroup 20B | 2.0
* * * * *
Vegetable, foliage of legume, group 7 | 90
* * * * *

* * * * *

[FR Doc. 2012-30850 Filed 12-20-12; 8:45 am]

BILLING CODE 6560-50-P